DEPARTMENT OF TRANSPORTATION

Federal Aviation Administration

Public Notice for Waiver of Aeronautical Land Use Assurance; Nampa Municipal Airport, Nampa, Idaho

AGENCY: Federal Aviation Administration (FAA), Department of Transportation (DOT).

ACTION: Notice.

SUMMARY: Notice is being given that the FAA is considering a request from the Nampa Municipal Airport, Airport Superintendent to change certain portions of the airport from aeronautical use to non-aeronautical use at the Nampa Municipal Airport, Nampa, ID. The request consists of 6 parcels, or portions thereof that are depicted on the Airport's current Exhibit A—Airport Property Map.

DATES: Comments are due within 30 days of the date of the publication of this notice in the Federal Register.

ADDRESSES: Written comments can be provided to Gary M. Gates, Civil Engineer, Helena Airports District Office, 2725 Skyway Drive Suite 2, Helena, MT 59602, (406) 449-5271.

FOR FURTHER INFORMATION CONTACT: Mr. Monte Hasl, Airport Superintendent, Nampa Municipal Airport, 411 3rd Street South, Nampa Idaho 83651 or Gary M. Gates, Civil Engineer, Helena Airports District Office, 2725 Skyway Drive Suite 2, Helena, MT 59602, (406) 449-5271. Documents reflecting this FAA action may be reviewed at the above locations.

SUPPLEMENTARY INFORMATION: Under the provisions of Title 49, U.S.C. 47153(c), and 47107(h)(2), the FAA is considering a proposal from the Airport Superintendent, Nampa Municipal Airport, to change a portion of the Nampa Municipal Airport from aeronautical use to non-aeronautical use in order to relocate a portion of an existing roadway outside of the Runway Protection Zone (RPZ). A total of 6 parcels, consisting of approximately 4.68 acres were included in the request. The FAA has reviewed the request and determined that all of the parcels or portions thereof in the request package can be released from aeronautical use. The land will remain under the City of Nampa ownership and will be leased at fair market value for non-aeronautical revenue generation. The revenue will support the Airports aviation needs, including upcoming airport development projects. The proposed use of this property is considered compatible with other airport operations in accordance with FAA's Policy and Procedures Concerning the Use of Airport Revenue, published in Federal Register on February 16, 1999.

Issued in Helena, Montana on September 28, 2020.
Steven L. Engebrecht,
Acting Manager,Helena Airports District Office.

[FR Doc. 2020-21780 Filed 10-1-20; 8:45 am]

BILLING CODE 4910-13-P